AGENCY FOR INTERNATIONAL DEVELOPMENT

U.S. Global Water Strategy 2017-2022; Meeting

AGENCY: United States Agency for International Development.

ACTION: Request for public comment and notice of public meeting.

SUMMARY: The Department of State (DOS) and the United States Agency for International Development (USAID) announce a public meeting and request public comment on the United States Global Water Strategy 2017-2022, including its achievements, challenges, implementation, results, and priorities. Comments from the public will inform the development of the revised U.S. Global Water Strategy and Agency-specific plans in 2022.

DATES:

1. Written comments and information are requested on or before Friday, October 29, 2021, at 5:00 p.m. EDT.

2. A Public Meeting to receive further comment will take place on November 17, 2021, at 2:00 p.m. EDT via Zoom (https://statedept.zoomgov.com/meeting/register/vJItdeCqqzIvE77yMpttzV8W82xO1mkqEXw).

3. Registration for the Public Meeting is required no later than Wednesday November 3, 2021, at 5:00 p.m. EDT, at https://statedept.zoomgov.com/meeting/register/vJItdeCqqzIvE77yMpttzV8W82xO1mkqEXw.

ADDRESSES:

You may submit comments regarding the U.S. Global Water Strategy 2017-2022 by email to waterteam@usaid.gov. Include “Comments: U.S. Global Water Strategy” in the subject line.

To request reasonable accommodations for the Public Meeting on November 17, contact Danielle Neighbour at NeighbourDG@state.gov. Include “Global Water Strategy Public Meeting: Reasonable Accommodations” in the subject line.

To register for the Public Meeting go to the following URL: https://statedept.zoomgov.com/meeting/register/vJItdeCqqzIvE77yMpttzV8W82xO1mkqEXw.

Instructions: Please see the SUPPLEMENTARY INFORMATION section of this document.

FOR FURTHER INFORMATION CONTACT:

Written Comments:

Lisa Schechtman, 202-712-0419, waterteam@usaid.gov.

Public Meeting:

Danielle Neighbour, 202-679-1296, NeighbourDG@state.gov.

SUPPLEMENTARY INFORMATION: The Senator Paul Simon Water for the World Act of 2014 (Pub. L. 113-289) requires the Department of State and USAID to jointly deliver a whole-of-government U.S. Global Water Strategy (GWS) by October 1, 2017 and every five years thereafter through 2027. The first revision of the Strategy, Agency-specific Plans, and High-Priority Country Plans (HPC) are due to the Foreign Relations Committee of the Senate, the Appropriations Committee of the Senate, the Foreign Affairs Committee of the House of Representatives, and the Appropriations Committee of the House of Representatives on October 1, 2022.

The Act requires the U.S. Global Water Strategy to include results areas, performance indicators, high priority country plans and roles and responsibilities based on contributing interagency capacities that describe how the U.S. Government will collectively contribute to the success of the Global Water Strategy. The Act also requires that DOS and USAID draft Agency-specific plans to be appended to each Global Water Strategy, along with any other Federal Department and Agency as relevant.

The U.S. Global Water Strategy aims to achieve a water-secure world where people have sustainable supplies of water of sufficient quantity and quality to meet human, economic, and ecosystem needs while improving the adaptive capacity and enhancing the resilience of people and systems to survive shocks and stressors such as floods and droughts. To advance this goal, the U.S. Government will work with partner countries, the private sector, and other stakeholders to advance four interrelated strategic objectives: (1) Promote sustainable access to safe drinking water and sanitation services, and the adoption of key hygiene behaviors; (2) encourage the sound management and protection of freshwater resources; (3) reduce conflict by promoting cooperation on shared waters; and (4) strengthen water sector governance, financing, and institutions

Request for Public Comment

To inform revisions to the Global Water Strategy, DOS and USAID invite written comments from the public on successes and challenges with implementation, monitoring, and reporting on the Global Water Strategy 2017-2022. DOS and USAID are especially interested in comments on the following:

(1) What steps can be taken to strengthen implementation of the Global Water Strategy? (Provide evidence and agency-specific examples if possible.)

(2) What untapped opportunities exist to accelerate progress towards the GWS Strategic Objectives? (Consider cross-cutting issues or emerging priorities. Provide evidence and examples if possible.)

Written comments and information are requested on or before Friday, October 29, 2021, at 5:00 p.m. EDT, and should be submitted by email to waterteam@usaid.gov. Include “Comments: U.S. Global Water Strategy” in the subject line. Please submit comments and information as a Word or PDF attachment to your email. You are encouraged to submit written comments even if you plan to attend the public meeting.

Public Meeting

A public meeting to receive input will take place November 17, 2021 at 2:00 p.m. EDT. This meeting is free and open to the public. Persons wishing to attend the meeting must register at the following URL no later than Wednesday, November 3, 2021, at 5:00 p.m. EDT: https://statedept.zoomgov.com/meeting/register/vJItdeCqqzIvE77yMpttzV8W82xO1mkqEXw.

Closed captioning will be provided during the public meeting. Questions about the public meeting or requests for reasonable accommodations should be directed to Danielle Neighbour at NeighbourDG@state.gov. Include “Global Water Strategy Public Meeting: Reasonable Accommodations” in the subject line.

(Authority: Sec. 6, Pub. L. 113-189, 128 Stat. 3288 (22 U.S.C. Ch. 32 2152h))

Dated: September 16, 2021.
Lisa Schechtman,
Senior Policy and Partnerships Advisor, Center for Water Security, Sanitation and Hygiene, Bureau for Resilience and Food Security, United States Agency for International Development.

[FR Doc. 2021-20366 Filed 9-20-21; 8:45 am]

BILLING CODE 6116-02-P